SMALL BUSINESS ADMINISTRATION

Data Collection Available for Public Comments and Recommendations

ACTION: Notice and request for comments.

SUMMARY: In accordance with the Paperwork Reduction Act of 1995, this notice announces the Small Business Administration's intentions to request approval on a new, and/or currently approved information collection.

DATES: Submit comments on or before August 12, 2002.

ADDRESSES: Send all comments regarding whether this information collection is necessary for the proper performance of the function of the agency, whether the burden estimates are accurate, and if there are ways to minimize the estimated burden and enhance the quality of the collection, to Cecilia Hoppenjans, Financial Analyst, Office of Investment Division,Small Business Administration, 409 3rd Street, SW., Suite 6300, Washington DC 20416

FOR FURTHER INFORMATION CONTACT: Cecilia Hoppenjans, Financial Analyst, (202) 205-7520 or Curtis B. Rich, Management Analyst, (202) 205-7030.

SUPPLEMENTARY INFORMATION: Title: Disclosure Statement Leveraged Licensees & Disclosure Statement, Non-Leveraged Licensees.

Form No's: 856 & 856A.

Description of Respondents: Small Business Investment Companies.

Annual Responses: 400.

Annual Burden: 187.

Jacqueline White,
Chief, Administrative Information Branch.

[FR Doc. 02-14588 Filed 6-10-02; 8:45 am]

BILLING CODE 8025-01-P